COMMISSION ON CIVIL RIGHTS

Agenda and Notice of Public Meeting of the Indiana Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the Indiana State Advisory Committee to the Commission will convene by conference call, on Thursday, November 12, 2020 at 2:00 p.m. (EST). The purpose is to discuss the Committee's project on lead poisoning in Indiana and next steps.

DATES: Thursday, November 12, 2020 at 2:00 p.m. (EST).

FOR FURTHER INFORMATION CONTACT: Mallory Trachtenberg at mtrachtenberg@usccr.gov or by phone at 202-809-9618.

SUPPLEMENTARY INFORMATION: Call-In Information: 800-353-6461 and conference call ID: 2578132.

This meeting is available to the public through the telephone number and conference ID listed above. Callers can expect to incur charges for calls they initiate over wireless lines, and the Commission will not refund any incurred charges. Persons with hearing impairments may also follow the proceedings by first calling the Federal Relay Service at 1-800-877-8339 and providing the Service with the conference call-in numbers: 800-263-0877 and conference call ID: 2578132.

Members of the public are entitled to make comments during the open period at the end of the meeting. Members of the public may also submit written comments; the comments must be received in the Regional Programs Unit within 30 days following the respective meeting. Written comments may be emailed to Mallory Trachtenberg at mtrachtenberg@usccr.gov. Persons who desire additional information may contact the Regional Programs Unit at 202-809-9618. Records and documents discussed during the meeting will be available for public viewing as they become available at https://www.facadatabase.gov/FACA/apex/FACAPublicCommittee?id=a10t0000001gzlgAAA; click the “Meeting Details” and “Documents” links. Records generated from this meeting may also be inspected and reproduced at the Midwestern Regional Office, as they become available, both before and after the meetings. Persons interested in the work of this advisory committee are advised to go to the Commission's website, www.usccr.gov, or to contact the Midwestern Regional Office at the above phone number or email.

Agenda

I. Welcome and Roll Call

II. Announcements and Updates

III. Discussion: Project on Lead Poisoning in Indiana

IV. Public Comment

V. Next Steps

VI. Adjournment

Dated: October 15, 2020.
David Mussatt,
Supervisory Chief, Regional Programs Unit.

[FR Doc. 2020-23236 Filed 10-20-20; 8:45 am]

BILLING CODE P